DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: May 11, 2005, 9 a.m. to 5 p.m., May 12, 2005, 9 a.m. to 5 p.m.

Place: Caribe Hilton Hotel, San Geronimo Grounds, Los Rosales Street, San Juan, Puerto Rico 00901, Phone: (787) 721-0303; Fax: (787) 722-2910.

Status: The meeting will be open to the public.

Agenda: The agenda includes an overview of the Council's general business activities. The Council will also develop recommendations to the Secretary of Health and Human Services. Finally, the Council will hear presentations from experts on farmworker issues, including the status of farmworker health at the local and national level.

The Council meeting is being held in conjunction with the National Farmworker Health Conference sponsored by the National Association of Community Health Centers, Inc., the Migrant Clinicians Network, and the National Center for Farmworker Health, which is being held in San Juan, Puerto Rico, during the same period of time.

Agenda items are subject to change as priorities indicate.

For Further Information Contact: Anyone requiring information regarding the Council should contact Gladys Cate, Office of Minority and Special Populations, staff support to the National Advisory Council on Migrant Health, Bureau of Primary Health Care, Health Resources and Services Administration, 5600 Fishers Lane, Rockville, Maryland 20857, Telephone (301) 594-0367.

Dated: April 18, 2005.
Tina M. Cheatham,
Director, Division of Policy Review and Coordination.

[FR Doc. 05-8104 Filed 4-21-05; 8:45 am]

BILLING CODE 4165-15-P